DEPARTMENT OF DEFENSE

Office of the Secretary

Renewal of Department of Defense Federal Advisory Committees

AGENCY: DoD.

ACTION: Renewal of Missouri River (South Dakota) Task Force.

SUMMARY: Under the provisions of 10 U.S.C. 2166(e), the Federal Advisory Committee Act of 1972 (5 U.S.C. Appendix), the Government in the Sunshine Act of 1976 (5 U.S.C. 552b), and 41 CFR 102-3.50(a), the Department of Defense gives notice that it is renewing the charter for the Missouri River (South Dakota) Task Force (“the Task Force”).

FOR FURTHER INFORMATION CONTACT: Jim Freeman, Advisory Committee Management Officer for the Department of Defense, 703-692-5952.

SUPPLEMENTARY INFORMATION: The Task Force shall provide independent advice and recommendations on a plan and accompanying critical restoration projects to reduce siltation of the Missouri River in the State of South Dakota and to meet the objectives of the Pick-Sloan program. Specifically, the Task Force shall:

a. Prepare and approve, by a majority of the members, a plan for the use of the funds made available under Public Law 106-541, to promote conservation practices in the Missouri River watershed, control and remove the sediment from the Missouri River, protect recreation on the Missouri River from sedimentation, protect Indian and non-Indian historical and cultural sites along the Missouri River from erosion, erosion control along the Missouri River, or any combination of the activities just described;

b. Develop and recommend to the Secretary of the Army for implementation critical restoration projects meeting the goals of the plan; and

c. Determine whether these critical restoration projects primarily benefit the Federal Government for purposes of cost-sharing.

The Task Force shall report to the Secretary of the Army. The Secretary of the Army may act upon the Task Force's advice and recommendations. As prescribed by Section 905(b) of the Missouri River Restoration Act of 2000, the Task Force shall be composed of not more than 29 members. Specifically, the Task Force membership shall be composed of the Secretary of the Army or designee, who shall serve as the Chairperson; Secretary of Agriculture or designee; Secretary of Energy or designee; Secretary of the Interior or designee; and the Trust.

The Trust is composed of 25 members to be appointed by the Secretary of the Army, including 15 members recommended by the Governor of South Dakota that represent equally the various interest of the public and include representatives of: The South Dakota Department of Environment and Natural Resources; the South Dakota Department of Game, Fish, and Parks; environmental groups; the hydroelectric power industry; local governments; recreation user groups; agricultural groups; other appropriate interests; nine members, one of each of whom shall be recommended by each of the nine Indian Tribes in the State of South Dakota; and one member recommended by the organization known as the “Three Affiliated Tribes of North Dakota” (composed of the Mandan, Hidatsa, and Arikara tribes).

The members of the Trust shall be appointed by the Secretary of the Army as representative members to the Task Force. All representative members of the Trust shall be appointed for a two-year term of service; however, no member, unless authorized by the Secretary of the Army, may serve more than two consecutive terms of service. In addition, all Task Force members shall, with the exception of travel and per diem for official travel, serve without compensation. DoD, when necessary and consistent with the Task Force's mission and DoD policies and procedures, may establish subcommittees, task groups, and working groups to support the Task Force. Establishment of subcommittees will be based upon a written determination, to include terms of reference, by the Secretary of Defense, the Deputy Secretary of Defense, or the Secretary of the Army.

Such subcommittees shall not work independently of the Task Force, and shall report all their recommendations and advice to the Task Force for full deliberation and discussion. Subcommittees have no authority to make decisions and recommendations, verbally or in writing, on behalf of the Task Force; nor can any subcommittee or its members update or report directly to the DoD or any Federal officers or employees.

The Secretary or the Deputy Secretary of Defense may approve the appointment of subcommittee members for two-year term of service with annual renewals; however, no member, unless authorized by the Secretary of Defense, may serve more than two consecutive terms of service. These individuals may come from the Task Force or may be new nominees, as recommended by the Secretary of the Army and based upon the subject matters under consideration.

Subcommittee members, if not full-time or part-time Government employees, shall be appointed to serve as experts and consultants under the authority of 5 U.S.C. 3109, and shall serve as SGEs, whose appointments must be renewed by the Secretary of Defense on an annual basis. With the exception of travel and per diem for official travel related to the Task Force or its subcommittee, subcommittee members shall serve without compensation.

Each subcommittee member is appointed to provide advice to the Government on the basis of his or her best judgment without representing any particular point of view and in a manner that is free from conflict of interest.

All subcommittees operate under the provisions of FACA, the Sunshine Act, governing Federal statutes and regulations, and governing DoD policies and procedures.

The Task Force shall meet at the call of the Task Force's Designated Federal Officer (DFO), in consultation with the Chairperson. The estimated number of Task Force meetings is no less than two per year.

In addition, the DFO is required to be in attendance at all Task Force and subcommittee meetings for the entire duration of each and every meeting; however, in the absence of the DFO, the Alternate DFO shall attend the entire duration of the Task Force or subcommittee meeting.

Pursuant to 41 CFR 102-3.105(j) and 102-3.140, the public or interested organizations may submit written statements to the Task Force membership about the Task Force's mission and functions. Written statements may be submitted at any time or in response to the stated agenda of planned meeting of the Task Force.

All written statements shall be submitted to the DFO, and this individual will ensure that the written statements are provided to the membership for their consideration. Contact information for the Task Force's DFO can be obtained from the GSA's FACA Database— https://www.fido.gov/facadatabase/public.asp.

The DFO, pursuant to 41 CFR 102-3.150, will announce planned meetings of the Task Force. The DFO, at that time, may provide additional guidance on the submission of written statements that are in response to the stated agenda for the planned meeting in question.

Dated: February 27, 2013.
Aaron Siegel,
Alternate OSD Federal Register Liaison Officer, Department of Defense.

[FR Doc. 2013-04882 Filed 3-1-13; 8:45 am]

BILLING CODE 5001-06-P